DEPARTMENT OF HEALTH AND HUMAN SERVICES

National Institutes of Health

Notice of Meeting: Secretary's Advisory Committee on Genetics, Health, and Society

Pursuant to Public Law 92-463, notice is hereby given of the fourteenth meeting of the Secretary's Advisory Committee on Genetics, Health, and Society (SACGHS), U.S. Public Health Service. The meeting will be held from 8:30 a.m. to approximately 5:30 p.m. on Monday, November 19, 2007 and 8:30 a.m. to approximately 5:30 p.m. on Tuesday, November 20, 2007, at the Ronald Reagan Building and International Trade Center—1300 Pennsylvania Avenue, NW., Washington, DC 20004. The meeting will be open to the public with attendance limited to space available. The meeting also will be Web cast.

The agenda will focus on three key issues—finalization of the SACGHS report on the opportunities and challenges in realizing the promise of pharmacogenomics; the oversight of genetic testing; and the preparedness of health professionals to incorporate genetic and genomic tests and services into clinical and public health practice. With regard to the oversight of genetic testing, SACGHS' draft report to the Secretary of Health and Human Services will be released for public comment in early November. The Committee will provide an extended period of time during the November meeting for members of the public to provide their perspectives on the oversight issues and comments on the Committee's draft report and recommendations. The Committee will also be briefed about an international analysis of oversight systems for genetic testing with a focus on the U.S. system.

As always, the Committee welcomes hearing from anyone wishing to provide public comment on any issue related to genetics, health and society. Individuals who would like to provide public comment should notify the SACGHS Executive Secretary. Ms. Sarah Carr, by telephone at 301-496-9838 or e-mail at carr@od.nih.gov. The SACGHS office is located at 6705 Rockledge Drive, Suite 750, Bethesda, MD 20892. Anyone planning to attend the meeting who is in need of special assistance, such as sign language interpretation or other reasonable accommodations, is also asked to contact the Executive Secretary.

Under authority of 42 U.S.C. 217a, Section 222 of the Public Health Service Act, as amended, the Department of Health and Human Services established SACGHS to serve as a public forum for deliberations on the broad range of human health and societal issues raised by the development and use of genetic and genomic technologies and, as warranted, to provide advice on these issues. The draft meeting agenda and other information about SACGHS, including information about access to the Web cast, will be available at the following Web site: http://www4.od.nih.gov/oba/sacghs.htm.

Dated: October 17, 2007.
Jennifer Spaeth,
Director, NIH Office of Federal Advisory Committee Policy.

[FR Doc. 07-5240 Filed 10-23-07; 8:45 am]

BILLING CODE 4140-01-M